DEPARTMENT OF COMMERCE

International Trade Administration

[A-423-808]

Stainless Steel Plate in Coils From Belgium: Final Results of Antidumping Duty Administrative Review; 2011-2012

AGENCY: Enforcement and Compliance, formerly Import Administration, International Trade Administration, U.S. Department of Commerce.

SUMMARY: On June 10, 2013, the Department of Commerce (the Department) published the preliminary results of the antidumping duty administrative review on stainless steel plate in coils (steel plate) from Belgium.¹ This review covers one manufacturer/exporter of the subject merchandise: Aperam Stainless Belgium N.V. (ASB). The period of review (POR) is May 1, 2011, through April 30, 2012.

¹ See Stainless Steel Plate in Coils From Belgium: Preliminary Results of Antidumping Duty Administrative Review; 2011-2012, 78 FR 34644 (June 10, 2013) (Preliminary Results).

Based on our analysis of the comments received, we determined that ASB made sales at less than normal value. For the final weighted-average dumping margin, see the “Final Results of Review” section below.

DATES: Effective Date: December 31, 2013.

FOR FURTHER INFORMATION CONTACT: Jolanta Lawska at 202-482-8362; AD/CVD Operations, Office III, Enforcement and Compliance, International Trade Administration, U.S. Department of Commerce, 14th Street and Constitution Avenue NW., Washington DC 20230.

SUPPLEMENTARY INFORMATION:

Background

On June 10, 2013, the Department published in the Federal Register the Preliminary Results. We invited interested parties to comment on the Preliminary Results. On July 10, 2013, the Department received a case brief from ASB. On July 18, 2013, the Department received a rebuttal brief from the petitioners.² No party requested a hearing.

² Petitioners are Allegheny Ludlum Corporation, North American Stainless, United Auto Workers Local 3303, Zanesville Armco Independent Organization, and the United Steel, Paper and Forestry, Rubber, Manufacturing, Energy, Allied Industrial and Service Workers International Union (AFL-CIO/CLC).

As explained in the memorandum from the Assistant Secretary for Enforcement and Compliance, the Department exercised its discretion to toll deadlines for the duration of the closure of the Federal Government from October 1, through October 16, 2013.³ Therefore, all deadlines in this segment of the proceeding were extended by 16 days. If the new deadline falls on a non-business day, in accordance with the Department's practice, the deadline will become the next business day. Pursuant to the Tolling Memorandum, on October 21, 2013, the Department issued a memorandum extending the time period for issuing the final results to October 24, 2013.⁴

³ See Memorandum for the Record from Paul Piquado, Assistant Secretary for Enforcement and Compliance, “Deadlines Affected by the Shutdown of the Federal Government” (Tolling Memorandum), dated October 18, 2013.

⁴ See Memorandum to Eric Greynolds, Program Manager, Antidumping and Duty Operations, Office 8, from Jolanta Lawska, Trade Analyst, Antidumping and Countervailing Duty Operations, Office 8 regarding extension of deadline for final results dated October 21, 2013.

On October 23, 2013, the Department issued a memorandum extending the time period for issuing the final results of this administrative review from October 24, 2013 to November 25, 2013.⁵ On November 22, 2013, the Department issued a memorandum extending the time period for issuing the final results of this administrative review from November 25, 2013, to December 10, 2013.⁶ On December 9, 2013, the Department issued a memorandum extending the time period for issuing the final results of this administrative review from December 10, 2013, to December 23, 2013.⁷

⁵ See Memorandum to Christian Marsh, Deputy Assistant Secretary, for Antidumping and Countervailing Duty Operations, through Melissa Skinner, Director, Office III Antidumping and Countervailing Duty Operations from Eric Greynolds, Program Manager, Office III Antidumping and Countervailing Duty Operations regarding Stainless Steel Plate in Coils from Belgium: Extension of Time Limit for Final Results of Antidumping Duty Administrative Review; 2011-2012 (October 22, 2013).

⁶ See Memorandum to Christian Marsh, Deputy Assistant Secretary, for Antidumping and Countervailing Duty Operations, through Melissa Skinner, Director, Office III Antidumping and Countervailing Duty Operations from Eric Greynolds, Program Manager, Office III Antidumping and Countervailing Duty Operations regarding Stainless Steel Plate in Coils from Belgium: Extension of Time Limit for Final Results of Antidumping Duty Administrative Review; 2011-2012 (November 22, 2013).

⁷ See Memorandum to Christian Marsh, Deputy Assistant Secretary, for Antidumping and Countervailing Duty Operations, through Melissa Skinner, Director, Office III Antidumping and Countervailing Duty Operations from Eric Greynolds, Program Manager, Office III Antidumping and Countervailing Duty Operations regarding Stainless Steel Plate in Coils from Belgium: Extension of Time Limit for Final Results of Antidumping Duty Administrative Review; 2011-2012 (December 9, 2013)

Scope of the Order

The merchandise subject to the Order ⁸ is certain stainless steel plate in coils. Stainless steel is alloy steel containing, by weight, 1.2 percent or less of carbon and 10.5 percent or more of chromium, with or without other elements. The subject plate products are flat-rolled products, 254 mm or over in width and 4.75 mm or more in thickness, in coils, and annealed or otherwise heat treated and pickled or otherwise descaled. The product is currently classified under the Harmonized Tariff Schedule of the United States (HTSUS) item numbers 7219.11.00.30, 7219.11.00.60, 7219.12.00.02, 7219.12.00.06, 7219.12.00.21, 7219.12.00.26, 7219.12.00.51, 7219.12.00.56, 7219.12.00.66, 7219.12.00.71, 7219.12.00.81, 7219.31.00.10, 7219.90.00.10, 7219.90.00.20, 7219.90.00.25, 7219.90.00.60, 7219.90.00.80, 7220.11.00.00, 7220.20.10.10, 7220.20.10.15, 7220.20.10.60, 7220.20.10.80, 7220.20.60.05, 7220.20.60.10, 7220.20.60.15, 7220.20.60.60, 7220.20.60.80, 7220.90.00.10, 7220.90.00.15, 7220.90.00.60 and 7220.90.00.80. Although the HTSUS subheadings are provided for convenience and customs purposes, the written product description remains dispositive.⁹

⁸ See Antidumping Duty Orders; Certain Stainless Steel Plate in Coils From Belgium, Canada, Italy, the Republic of Korea, South Africa, and Taiwan, 64 FR 27756 (May 21, 1999); Notice of Amended Antidumping Duty Orders; Certain Stainless Steel Plate in Coils From Belgium, Canada, Italy, the Republic of Korea, South Africa, and Taiwan, 68 FR 11520 (March 11, 2003); Notice of Amended Antidumping Duty Orders; Certain Stainless Steel Plate in Coils From Belgium, Canada, Italy, the Republic of Korea, South Africa, and Taiwan, 68 FR 16117 (April 2, 2003); Notice of Correction to the Amended Antidumping Duty Orders; Certain Stainless Steel Plate in Coils From Belgium, Canada, Italy, the Republic of Korea, South Africa, and Taiwan, 68 FR 20114 (April 24, 2003) (collectively, Antidumping Order).

⁹ For a full description of the scope of the order, see the Issues and Decision Memorandum for the Final Results of the Antidumping Duty Administrative Review of Stainless Steel Plate in Coils from Belgium; 2011-2012 from Christian Marsh, Deputy Assistant Secretary for Antidumping and Countervailing Duty Operations, to Paul Piquado, Assistant Secretary for Enforcement and Compliance, dated concurrent with and hereby adopted by this notice (Issues and Decision Memorandum).

Analysis of Comments Received

All issues raised in the case and rebuttal briefs by parties to this administrative review are addressed in the Issues and Decision Memorandum.

The Issues and Decision Memorandum is a public document and is on file in the Central Records Unit (CRU), room 7046 of the main Department of Commerce building, as well as electronically via Enforcement and Compliance's Antidumping and Countervailing Duty Centralized Electronic Service System (IA ACCESS). IA ACCESS is available to registered users at http://iaaccess.trade.gov and in the CRU. In addition, a complete version of the Issues and Decision Memorandum can be accessed directly on the Internet at http://enforcement.ita.doc.gov/frn/index.html. The signed Issues and Decision Memorandum and the electronic versions of the Issues and Decision Memorandum are identical in content.

Final Results of Review

As a result of our review, we determined that the following weighted-average dumping margin exists for the period May 1, 2011, through April 30, 2012:

Manufacturer/exporter | Weighted- average dumping margin
Aperam Stainless Belgium N.V. | 0.63%

Assessment Rates

The Department shall determine and U.S. Customs and Border Protection (CBP) shall assess antidumping duties on all appropriate entries. The Department intends to issue assessment instructions to CBP 15 days after the publication date of the final results of this review. Since the weighted-average dumping margin is above de minimis, we calculated importer-specific ad valorem duty assessment rates based on the ratio of the total amount of dumping calculated for the importer's examined sales to the total entered value of those same sales in accordance with 19 CFR 351.212(b)(1). We will instruct CBP to assess antidumping duties on all appropriate entries covered by this review since the importer-specific assessment rate calculated in the final results of this review is above de minimis (i.e., 0.50 percent). Where either a respondent's weighted-average dumping margin is zero or de minimis, or an importer-specific assessment rate is zero or de minimis, we instruct CBP to liquidate the appropriate entries without regard to antidumping duties.

The Department clarified its “automatic assessment” regulation on May 6, 2003.¹⁰ This clarification will apply to entries of subject merchandise during the POR produced by the respondent for which it did not know its merchandise was destined for the United States. In such instances, we will instruct CBP to liquidate unreviewed entries at the all-others rate if there is no rate for the intermediate company(ies) involved in the transaction. For a full discussion of this clarification, see Assessment Policy Notice.

¹⁰ See Antidumping and Countervailing Duty Proceedings: Assessment of Antidumping Duties, 68 FR 23954 (May 6, 2003) (Assessment Policy Notice).

Cash Deposit Requirements

The following antidumping duty deposit rates will be effective upon publication of the final results of this administrative review for all shipments of steel plate from Belgium entered, or withdrawn from warehouse, for consumption on or after the publication date of these final results, as provided for by section 751(a)(1) of the Tariff Act of 1930, as amended (the Act): (1) For ASB, the cash deposit rate will be the rate established in the final results of this review; (2) if the exporter is not a firm covered in this review, but was covered in a previous review or the original less-than-fair-value (LTFV) investigation, the cash deposit rate will continue to be the company-specific rate established for the most recent period; (3) if the exporter is not a firm covered in this review, a prior review, or the LTFV investigation, but the manufacturer is, the cash deposit rate will be the rate established for the most recent period for the manufacturer of the subject merchandise; and (4) if neither the exporter nor the manufacturer is a firm covered by this review, a prior review, or the LTFV investigation, the cash deposit rate will be 8.54 percent ad valorem, the “all-others” rate established in the LTFV investigation.¹¹ These deposit rates, when imposed, shall remain in effect until further notice.

¹¹ See Notice of Final Determination of Sales at Less Than Fair Value: Stainless Steel Plate in Coils from Belgium, 64 FR 15476 (March 31, 1999), as amended by Implementation of the Findings of the WTO Panel in U.S.—Zeroing (EC): Notice of Determinations Under Section 129 of the Uruguay Round Agreements Act and Revocations and Partial Revocations of Certain Antidumping Duty Orders, 72 FR 25261 (May 4, 2007).

Reimbursement of Duties

This notice also serves as a final reminder to importers of their responsibility under 19 CFR 351.402(f)(2) to file a certificate regarding the reimbursement of antidumping duties prior to liquidation of the relevant entries during this POR. Failure to comply with this requirement could result in the Secretary's presumption that reimbursement of antidumping duties occurred and the subsequent assessment of double antidumping duties.¹²

¹² See 19 CFR 351.402(f)(3).

Notification to Interested Parties

This notice also serves as a reminder to parties subject to administrative protective order (APO) of their responsibility concerning the return or destruction of proprietary information disclosed under APO in accordance with 19 CFR 351.305(a)(3), which continues to govern business proprietary information in this segment of the proceeding. Timely written notification of the return/destruction of APO materials or conversion to judicial protective order is hereby requested. Failure to comply with the regulations and terms of an APO is a violation which is subject to sanction.

These final results of review are issued and published in accordance with sections 751(a)(1) and 777(i)(1) of the Act and 19 CFR 351.213(h).

Dated: December 23, 2013.
Paul Piquado,
Assistant Secretary for Enforcement and Compliance.

Appendix—List of Comments in the Accompanying Issues and Decision Memorandum

Comment 1: Withdrawal of the Regulatory Provisions Governing Targeted Dumping in Less-Than-Fair-Value Investigations

Comment 2: Use of the Average-to-Average Comparison Method in Administrative Reviews

Comment 3: Use of an Alternative Comparison Method in Administrative Reviews

Comment 4: Denial of Offsets with the Average-to-Transaction Comparison Method

Comment 5: Differential Pricing Analysis

[FR Doc. 2013-31345 Filed 12-30-13; 8:45 am]

BILLING CODE 3510-DS-P